DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of one or more persons that have been removed from the list of Specially Designated Nationals and Blocked Person (SDN List). Their property and interests in property are no longer blocked, and U.S. persons are no longer prohibited from engaging in lawful transactions with them.

DATES: See Supplementary Information section for applicable date(s).

FOR FURTHER INFORMATION CONTACT: OFAC: Andrea M. Gacki, Director, tel.: 202-622-2480; Associate Director for Global Targeting, tel: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

On October 8, 2021, OFAC determined that circumstances no longer warrant the inclusion of the following persons on the SDN List and that their property and interests in property are no longer blocked under the relevant sanctions authorities listed below.

Entities

1. MAMMUT INDUSTRIAL GROUP P.J.S (a.k.a. MAMMUT INDUSTRIAL GROUP; a.k.a. MAMMUT TEHRAN INDUSTRIAL GROUP; a.k.a. “MAMMUT INDUSTRIES”), Khaled Eslamboli Street, Seventh Street No. 7, Tehran 15875-7974, Iran; No. 65 Lofti Street, Tehran, Iran; Vozara Str, 7th Str No. 7, Tehran, Iran; website www.mammutco.com; Additional Sanctions Information—Subject to Secondary Sanctions; Registration Number 3167 (Iran) [NPWMD] [IFSR] (Linked To: SHAHID HEMMAT INDUSTRIAL GROUP).

Designated on September 21, 2020, pursuant to Section 1(a)(iii) of Executive Order 13382 of June 28, 2005, “Blocking Property Weapons of Mass Destruction Proliferators and Their Supporters,” 70 FR 38567, 3 CFR, 2006 Comp., p. 170 (E.O. 13382) for having provided, or attempted to provide, financial, material, technological or other support for, or goods or services in support of, SHAHID HEMMAT INDUSTRIAL GROUP.

2. MAMMUT DIESEL (a.k.a. MAMMUT DIESEL COMPANY), No. 158, 14th km, Makhsoos Road, Tehran 37515-335, Iran; website www.mammutdiesel.com; Additional Sanctions Information—Subject to Secondary Sanctions; National ID No. 10103952900 (Iran); Registration Number 1910 (Iran) [NPWMD] [IFSR] (Linked To: MAMMUT INDUSTRIAL GROUP P.J.S).

Designated on September 21, 2020, pursuant to Section 1(a)(iv) of E.O. 13382 for being owned or controlled by, directly or indirectly, MAMMUT INDUSTRIAL GROUP P.J.S.

Dated: October 8, 2021.
Bradley T. Smith,
Acting Director, Office of Foreign Assets Control, U.S. Department of the Treasury.

[FR Doc. 2021-22480 Filed 10-14-21; 8:45 am]

BILLING CODE 4810-AL-P